DEPARTMENT OF TRANSPORTATION

Maritime Administration (MARAD)

Reports, Forms and Recordkeeping Requirements Agency Information Collection Activity Under OMB Review

AGENCY: Maritime Administration, DOT

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on April 10, 2000 [65 FR 19038]. Comments were due June 9, 2000. No comments were received.

DATES: Comments must be submitted on or before July 20, 2000.

FOR FURTHER INFORMATION CONTACT: Raymond R. Barberesi, Director Office of Sealift Support, MAR-630, Room 7307, Maritime Administration, 400 Seventh Street, SW, Washington, D.C. 20590, telephone number 202-366-2323 or fax 202-493-2180. Copies of this collection can be obtained from that office.

SUPPLEMENTARY INFORMATION:

Maritime Administration

Title of Collection: “Voluntary Intermodal Sealift Agreement (VISA)”.

OMB Control Number: 2133-NEW.

Type of Request: Approval of a new information collection.

Affected Public: Operators of dry cargo vessels.

Form(s): MA-1020.

Abstract: In accordance with Section 708 of the Defense Production Act, 1950, as amended, this information collection is needed by MARAD and the Department of Defense (DOD), including representatives from the U.S. Transportation Command and its components, to evaluate and assess the applicants eligibility for participation in the VISA program. The information will be used by MARAD and the U.S. Transportation Command and its components to assure the continued availability of commercial sealift resources to meet the DOD's military requirements.

Annual Estimated Burden Hours: 200 hours.

ADDRESSES Send comments to the Office of Information and Regulatory Affairs, Office of Management and Budget, 725-17th Street, NW, Washington, DC 20503, Attention MARAD Desk Officer.

Comments are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: June 14, 2000.
Edmund T. Sommer, Jr.,
Acting Secretary, Maritime Administration.

[FR Doc. 00-15447 Filed 6-19-00; 8:45 am]

BILLING CODE 4910-81-P